DEPARTMENT OF HEALTH AND HUMAN SERVICES

Centers for Disease Control and Prevention

[Docket Number NIOSH-141]

Notice of Draft Document Available for Public Comment

AGENCY: National Institute for Occupational Safety and Health (NIOSH) of the Centers for Disease Control and Prevention (CDC), Department of Health and Human Services (HHS).

ACTION: Notice of Draft Document Available for Public Comment.

SUMMARY: The National Institute for Occupational Safety and Health (NIOSH) of the Centers for Disease Control and Prevention (CDC) announces the availability of the following draft document available for public comment entitled “Preventing Deaths and Injuries of Fire Fighters When Fighting Fires in Unoccupied Structures.” The draft document and instructions for submitting comments can be found at http://www.cdc.gov/niosh/review/public/141/. Comments may be provided to the NIOSH Docket Number above.

Public Comment Period: January 5, 2009 to March 9, 2009.

Status: Written comments may be submitted to the NIOSH Docket Office, Robert A. Taft Laboratories, 4676 Columbia Parkway, Mailstop C34, Cincinnati, Ohio 45226, telephone (513) 533-8611. All materials submitted to the Agency should reference NIOSH docket number 141 and must be submitted by March 9, 2009, to be considered by the Agency. All electronic comments should be formatted as Microsoft Word.

All information received in response to this notice will be available for public examination and copying at the NIOSH Docket Office, Room 111, 4676 Columbia Parkway, Cincinnati, Ohio 45226. After the comment period has closed, comments may be accessed electronically at http://www.cdc.gov/NIOSH under the link to the NIOSH docket. As appropriate, NIOSH will post comments with the commenters' names, affiliations, and other information, on the Internet.

Background: This document highlights hazards and provides recommendations for preventing fire fighter deaths and injuries when working in structures that are known or suspected to be vacant or unoccupied. This document summarizes fatality statistics from the National Fire Protection Association as well as the NIOSH Fire Fighter Fatality Investigation and Prevention Program (FFFIPP) databases. Selected case reports from the NIOSH FFFIPP program are presented to illustrate the risks to fire fighters entering structures known to be unoccupied and to highlight recommended interventions. The primary audiences are expected to be fire commissioners, fire chiefs, fire department and municipal managers, fire fighters, labor unions, safety and health professionals, trainers, fire investigators, State fire marshals, contractors, building owners and other interested parties.

This guidance document does not have the force and effect of law.

CONTACT PERSON FOR TECHNICAL INFORMATION: Timothy R. Merinar, Safety Engineer, CDC/NIOSH, Division of Safety Research, 1095 Willowdale Road, H1808, Morgantown, West Virginia, 26505, telephone (304) 285-5916, e-mail tmerinar@cdc.gov.

Reference: Web address for this document: http://www.cdc.gov/niosh/review/public/141/.

Dated: December 15, 2008.
James D. Seligman,
Chief Information Officer, Centers for Disease Control and Prevention.

[FR Doc. E8-30382 Filed 12-19-08; 8:45 am]

BILLING CODE 4163-19-P